DEPARTMENT OF ENERGY

Federal Energy Regulatory Commission

[Docket No. EC03-132-000, et al.]

Michigan Transco Holdings, Limited Partnership, et al.; Electric Rate and Corporate Filings

September 5, 2003.

The following filings have been made with the Commission. The filings are listed in ascending order within each docket classification.

1. Michigan Transco Holdings, Limited Partnership, Michigan Electric Transmission Company, LLC, SFG V-A INC., GPSF-F INC., Evercore METC Investment Inc., Evercore METC Coinvestment Inc., Macquarie Transmission Michigan Inc., NA Capital Holdings Inc., Mich 1400 Corp.

[Docket No. EC03-132-000]

Take notice that on September 2, 2003, Michigan Transco Holdings, Limited Partnership (Michigan Transco Holdings), Michigan Electric Transmission Company, LC (METC), SFG V-A INC. (SFG V-A), GPSF-F INC. (GPSF-F), Evercore METC Investment Inc. and Evercore METC Coinvestment Inc. (the Evercore Investors), Macquarie Transmission Michigan Inc. (MTM), NA Capital Holdings Inc. (NA Holdings) and Mich 1400 Corp. (Mich 1400) (collectively referred to as Applicants), filed with the Federal Energy Regulatory Commission an application pursuant to section 203 of the Federal Power Act and 18 CFR part 33 for authorization of any indirect disposition of the jurisdictional facilities of METC that may result from a transfer of certain passive limited partnership interests held by SFG V-A in Michigan Transco Holdings, and the transfer of non-voting Series C Convertible Preferred Stock of Trans-Elect, Inc. held by GPSF-F to the Evercore Investors, MTM, NA Holdings and Mich 1400 (the Proposed Transactions).

Comment Date: September 23, 2003.

2. Trent Wind Farm, L.P.

[Docket No. EG03-98-000]

Take notice that on September 3, 2003, Trent Wind Farm, L.P. (Trent Wind), filed with the Federal Energy Regulatory Commission an application for determination of exempt wholesale generator status pursuant to part 365 of the Commission's Regulations.

Trent Wind states it is a limited partnership, organized under the laws of the State of Delaware, and engaged directly and exclusively in owning and operating the Trent Mesa Wind Project, located between Abilene and Sweetwater, Texas, and selling electric energy at wholesale from the Facility. Trent Wind explains that the Facility consists of 100 wind-powered turbines, with a combined nominal rating of approximately 150 MW, a metering station, and associated transmission interconnection equipment.

Comment Date: September 24, 2003.

3. Rocky Mountain Energy Center, LLC

[Docket No. EG03-99-000]

Take notice that on September 3, 2003, Rocky Mountain Energy Center, LLC (Applicant), c/o Calpine Corporation, filed with the Commission an application for determination of exempt wholesale generator status pursuant to part 365 of the Commission's Regulations.

Applicant states that it will own and operate a nominal 601 MW power generation facility to be located east of the town of Heldon in Weld County, Colorado. Applicant further states that copies of the application were served upon the United States Securities and Exchange Commission and Colorado Public Utilities Commission.

Comment Date: September 24, 2003.

4. First Energy Solutions Corp. v. PJM Interconnection, L.L.C. and Edison Mission Energy v. PJM Interconnection, L.L.C.

[Docket Nos. EL02-112-001 and EL02-120-001]

Take notice that on September 2, 2003, PJM Interconnection, L.L.C. (PJM) filed a letter to comply with the Commission's May 2, 2003 Order in these dockets explaining that the required modification to its Market Monitoring Plan already has been made and accepted in Docket No. ER03-220-000.

PJM states that copies of this filing have been served on all PJM members and utility regulatory commissions in the PJM region and on all parties listed on the official service list compiled by the Secretary in this proceeding.

Comment Date: October 2, 2003.

5. BP Energy Company

[Docket No. EL03-60-003]

Take notice that on September 3, 2003, BP Energy Company submitted a letter detailing the disbursement of monies in accordance with the Stipulation and Consent Agreement, pursuant to the Commission's Order dated July 18, 2003, in Docket No. EL03-60-000, 104 FERC ¶ 61,089.

Comment Date: September 23, 2003.

6. The Cincinnati Gas & Electric Company, The Dayton Power & Light Company and Columbus and Southern Ohio Electric Company

[Docket Nos. ER03-1016-001 and EC03-102-001]

Take notice that on September 2, 2003, The Cincinnati Gas & Electric Company (CG&E), The Dayton Power & Light Company (Dayton) and Columbus and Southern Ohio Electric Company (Columbus) jointly submitted responses to the letter requiring additional information issued by the Federal Energy Regulatory Commission in the above-captioned dockets on August 1, 2003.

Comment Date: September 23, 2003.

7. St. Paul Cogeneration, LLC

[Docket No. ER03-1212-002]

Take notice that on September 3, 2003, St. Paul Cogeneration, LLC (St. Paul) filed with the Federal Energy Regulatory Commission revisions to the tariff and code of conduct that were filed on August 14, 2003, with St. Paul's application for authorization to sell energy and capacity at market-based rates pursuant to section 205 of the Federal Power Act.

Comment Date: September 12, 2003.

8. New England Power Pool

[Docket No. ER03-1275-000]

Take notice that on August 29, 2003, the New England Power Pool (NEPOOL) Participants Committee filed for acceptance materials to (1) permit NEPOOL to expand its membership to include BOC Energy Services, Inc. (BOC), Duke Energy Marketing America, L.L.C. (DEMA), and RAM Energy Products, L.L.C. (RAM); and (2) to terminate the memberships of the Massachusetts Energy Buyers Coalition (MEBC), and Mohawk River Funding III, LLC (MRF III). The Participants Committee requests the following effective dates: September 1, 2003 for the commencement of participation in NEPOOL by DEMA and RAM and the termination of MEBC and MRF III; and October 1, 2003 for the commencement of participation in NEPOOL by BOC.

The Participants Committee states that copies of these materials were sent to the New England state governors and regulatory commissions and the Participants in NEPOOL.

Comment Date: September 19, 2003.

9. FirstEnergy Service Company

[Docket No. ER03-1276-000]

Take notice that on September 2, 2003, FirstEnergy Service Company (FirstEnergy) tendered for filing the following documents, which FirstEnergy states are intended to assist in implementation of the transfer of control to the Midwest Independent System Operator (the Midwest ISO) of the transmission system which is currently owned and operated by American Transmission Systems, Incorporated (ATSI):

• Revised Open Access Transmission Tariff of ATSI.

• Revised Transmission System Operating Agreement between ATSI and the FirstEnergy Operating Companies.

• Notices of Cancellation of certain Network Integration Transmission Service Agreements and Point-to-Point Transmission Agreements for service over the ATSI transmission system.

• A Notice of Cancellation of the Joint Dispatch Agreement Among FirstEnergy Services Corp., the FirstEnergy Operating Companies, and ATSI.

FirstEnergy has asked for waiver of any applicable requirements in order to make the Agreement effective as of October 1, 2003, or such later date as the Midwest ISO assumes control of the ATSI transmission grid.

Comment Date: September 23, 2003.

10. Midwest Independent Transmission System Operator, Inc.

[Docket No. ER03-1277-000]

Take notice that on August 29, 2003, the Midwest Independent Transmission System Operator, Inc. (Midwest ISO) submitted for filing Schedule 10-FERC of its Open Access Transmission Tariff, FERC Electric Tariff, Second Revised Volume No. 1, in order to recover the Midwest ISO's payments to the Commission for FERC annual charges.

The Midwest ISO has requested waiver of the notice provision of Section 205 of the Federal Power Act in order to accommodate an effective date of September 1, 2003, because the Midwest ISO anticipates billing for service under Schedule 10-FERC on September 1, 2003.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region. In addition, Midwest ISo states that the filing has beenelectronically posted on its Web site at http://www.midwestiso.org under the heading “Filings to FERC” for other interested parties in this matter. The Midwest ISO notes that it will provide hard copies to any interested parties upon request.

Comment Date: September 19, 2003.

11. Xcel Energy Services, Inc. and Northern States Power Company

[Docket No. ER03-1278-000]

Take notice that on August 29, 2003, Xcel Energy Services, Inc. (XES), on behalf of Northern States Power Company (NSP) submitted for filing with the Federal Energy Regulatory Commission (Commission) a Generation Interconnection Agreement between NSP and Wilson-West Wind Farm, LLC, Moulton Heights Wind Power Project, LLC, North Ridge Wind Farm, LLC, Viking Wind Farm, LLC, Vandy South Project, LLC, Muncie Power Partners, LLC, and Vindy Power Partners, LLC.

NSP requests the agreement to be accepted for filing effective April 1, 2003, and requests waiver of the Commission's notice requirements in order for the Agreements to be accepted for filing on the date requested.

Comment Date: September 19, 2003.

12. Ameren Services Company

[Docket No. ER03-1280-000]

Take notice that on September 2, 2003, Ameren Services Company (ASC) tendered for filing unexecuted Service Agreements for Network Integration Transmission Service and a Network Operating Agreement between Ameren Services and Citizens Electric Corporation. Ameren Services asserts that the purpose of the Agreements is to permit Ameren Services to provide transmission service to Citizens Electric Corporation pursuant to Ameren's Open Access Tariff.

Comment Date: September 23, 2003.

13. Smarr EMC

[Docket No. ER03-1281-000]

Take notice that on September 2, 2003, Smarr EMC (Smarr) tendered for filing with the Commission, pursuant to 18 CFR 35.10a, form Service Agreements to govern cost-based power sales under Smarr's Second Revised Rate Schedule FERC No. 1 and Second Revised Rate Schedule FERC No. 2. Smarr states that form Service Agreements incorporated changes to Power Purchase Agreements already on file with the Commission. Therefore, Smarr is also filing a rate schedule amendment pursuant to CFR 35.13.

Smarr states that copies of this filing have been mailed to each of Smarr's Member-Owner/Purchasers. Smarr requests that the form Service Agreements and the associated amendments become effective November 1, 2003.

Comment Date: September 23, 2003]

14. Xcel Energy Services, Inc., Northern States Power Company

[Docket No. ER03-1282-000]

Take notice that on September 2, 2003, Xcel Energy Services, Inc. (XES), on behalf of Northern States Power Company (NSP) submitted for filing with the Federal Energy Regulatory Commission (Commission) a Generation Interconnection Agreement between NSP and Boeve Wind Farm, LLC.

NSP requests the agreement to be accepted for filing effective August 1, 2003, and requests waiver of the Commission's notice requirements in order for the Agreements to be accepted for filing on the date requested.

Comment Date: September 23, 2003.

15. Vineland Energy LLC

[Docket No. ER03-1283-000]

Take notice that on September 2, 2003, Vineland Energy LLC (Vineland) petitioned the Federal Energy Regulatory Commission for an order: (1) Accepting for filing Vineland's Rate Schedule FERC No. 1; (2) granting waiver of certain requirements of the Commission's regulations; and (3) granting the blanket approvals normally accorded to sellers permitted to sell at market-based rates. Vineland also requests that the Commission grant waiver of the 60-day prior notice requirement.

Comment Date: September 23, 2003]

16. Blue Canyon Windpower, LLC

[Docket No. ER03-1284-000]

Take notice the on September 2, 2003, Blue Canyon Windpower, LLC (Blue Canyon) tendered for filing pursuant to section 205 of the Federal Power Act 16 U.S.C.824d and 18 CFR 35, a petition for waivers and blanket approvals under various regulations of the Commission and for an order accepting its FERC Electric Tariff No. 1, authorizing Blue canyon to make sales at market-based rates. Blue Canyon has requested an effective date of October 15, 2003 for its market-based rates.

Blue Canyon states that it intends to sell electric power at wholesale. Blue Canyon states that, in transactions where it sells electric energy, it proposes to make such sales on rates, terms, and conditions to be mutually agreed to with the purchasing party. Blue Canyon's Tariff provides for the sale of energy and capacity at agreed prices.

Comment Date: September 23, 2003.

17. California Independent System Operator Corporation

[Docket No. ER03-1285-000]

Take notice that on September 2, 2003, the California Independent System Operator Corporation (ISO), tendered for filing a revision to the Participating Generator Agreement between the ISO and Termoeléctrica De Mexicali S. de R.L. de C.V. (TDM) for acceptance by the Commission. The purpose of the revision is to conform to the ISO's new format for specification of the technical characteristics of a Generating Unit.

The ISO states that this filing has been served on TDM, the California Public Utilities Commission, and all entities that are on the official service list for Docket No. ER03-395-000. The ISO is requesting waiver of the 60-day notice requirement to allow the revision to the Participating Generator Agreement to be made effective September 2, 2003.

Comment Date: September 23, 2003.

18. PSEG Energy Resources & Trade LLC, PSEG Fossil LLC and PSEG Nuclear LLC

[Docket Nos. ES03-53-000, ES03-54-000 and ES03-55-000]

Take notice that on August 29, 2003, PSEG Energy Resources & Trade LLC, PSEG Fossil LLC, and PSEG Nuclear LLC (the PSEG Power Companies) submitted an application pursuant to section 204 of the Federal Power Act seeking authorization to enter into joint and several subsidiary guarantees of debt issued by PSEG Power LLC and to enter into short-term intra-corporate funding arrangements.

PSEG Power Companies also requests a waiver from the Commission's competitive bidding and negotiated placement requirements at 18 CFR 34.2.

Comment Date: September 18, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-23607 Filed 9-15-03; 8:45 am]

BILLING CODE 6717-01-P